DEPARTMENT OF ENERGY

Federal Energy Regulatory Commission

[Docket No. RP02-573-000]

Northern Natural Gas Company; Notice of Proposed Changes in FERC Gas Tariff

October 16, 2002.

Take notice that on September 30, 2002, Northern Natural Gas Company (Northern) tendered for filing has part of its FERC Gas Tariff, Fifth Revised Volume No. 1, Second Revised Sheet No. 253, Original Sheet No. 253A, and Third Revised Sheet No. 297, with an effective date of October 31, 2002.

Pursuant to the Commission order issued September 24, 2002 in Docket No. CP02-139-000, Northern is proposing changes to Section 26 (Request for Throughput Service) and Section 52 (Right of First Refusal) of the General Terms and Conditions of its tariff to set forth its proposal regarding the reservation of capacity for future expansion projects and extension rights for interim shippers.

Northern further states that copies of the filing have been mailed to each of its customers and interested state commissions.

Any person desiring to be heard or to protest said filing should file a motion to intervene or a protest with the Federal Energy Regulatory Commission, 888 First Street, NE., Washington, DC 20426, in accordance with sections 385.214 or 385.211 of the Commission's rules and regulations. All such motions or protests must be filed on or before October 23, 2002. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202) 502-8222 or for TTY, (202) 502-8659. Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-26954 Filed 10-22-02; 8:45 am]

BILLING CODE 6717-01-P